DEPARTMENT OF AGRICULTURE

Animal and Plant Health Inspection Service

[Docket No. APHIS-2009-0008]

Availability of an Environmental Assessment for a Biological Control Agent for Russian Knapweed

AGENCY: Animal and Plant Health Inspection Service, USDA.

ACTION: Notice of availability and request for comments.

SUMMARY: We are advising the public that the Animal and Plant Health Inspection Service has prepared an environmental assessment relative to the control of Russian knapweed, Acroptilon repens. The environmental assessment considers the effects of, and alternatives to, the release of a gall midge, Jaapiella ivannikovi, into the continental United States for use as a biological control agent to reduce the severity of Russian knapweed infestations. We are making the environmental assessment available to the public for review and comment.

DATES: We will consider all comments that we receive on or before April 13, 2009.

ADDRESSES: You may submit comments by either of the following methods:

• Federal eRulemaking Portal: Go to http://www.regulations.gov/fdmspublic/component/main?main=DocketDetail&d=APHIS-2009-0008 to submit or view comments and to view supporting and related materials available electronically.

• Postal Mail/Commercial Delivery: Please send two copies of your comment to Docket No. APHIS-2009-0008, Regulatory Analysis and Development, PPD, APHIS, Station 3A-03.8, 4700 River Road Unit 118, Riverdale, MD 20737-1238. Please state that your comment refers to Docket No. APHIS-2009-0008.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. L. Carmen Soileau, Senior Staff Entomologist, Permits, Registrations, Imports, and Manuals, PPQ, APHIS, 4700 River Road Unit 133, Riverdale, MD 20737-1237; (866) 524-5421.

SUPPLEMENTARY INFORMATION:

Background

The Animal and Plant Health Inspection Service (APHIS) is proposing to issue permits for the release of a gall midge, Jaapiella ivannikovi, into the continental United States for use as a biological control agent to reduce the severity of Russian knapweed (Acroptilon repens) infestations.

Russian knapweed is a long-lived perennial in the plant tribe Asteraceae (sunflower, aster, or daisy family). The highly invasive weed was first introduced into North America in 1898. By 1998, the weed had spread to 313 counties in 45 of the 48 contiguous States in the United States with 80 percent of the infestation occurring in the States of Colorado, Idaho, Washington, and Wyoming. Russian knapweed thrives in a variety of habitats and is found in both irrigated and arid environments and in croplands, pastures, rangelands, and wastelands. The weed is a strong competitor and produces a chemical substance that inhibits the growth of other plant species, and, as a result, dense (100-300 plants/square meter) infestations may develop. It is generally not used for forage because of its bitter taste and because it presents a risk of causing neurological disorders in horses if consumed. Additionally, it reduces wildlife habitats, suppresses other plants, and has no beneficial qualities.

Existing Russian knapweed management options are ineffective, expensive, and temporary and have negative impacts on other species of plants. Therefore, APHIS is proposing to issue permits for the release of a gall midge, J. ivannikovi, into the continental United States for use as a biological control agent to reduce the severity of Russian knapweed infestations.

The proposed biological control agent, J. ivannikovi, is an insect measuring 1.6 to 2.5 mm in length with relatively large wings, long legs, and a long ovipositor (egg-laying organ) that can be extended from the tip of the abdomen. The female gall midge deposits its eggs on the surface of the buds situated on the tips of the main and side shoots of the Russian knapweed. Larval feeding causes stunted growth of the shoot and fusion of leaves, resulting in a so-called “rosette gall.”

Host specificity laboratory tests conducted at the CABI Bioscience Centre in Deleémont, Switzerland, and open-field experiments in Uzbekistan indicate that J. ivannikovi is host-specific to Russian knapweed. The list of plants tested in the laboratory consisted of the target plant, Russian knapweed, collected in the native range (Uzbekistan), a population of Russian knapweed collected in North America (Wyoming), and 50 non-target plant species or varieties. During these tests, several male and female J. ivannikovi gall midges were placed into a plastic cylinder that covered each plant. After exposure, the plants were inspected for gall formation. In these laboratory tests, galls occurred only on the target weed Russian knapweed and on the Eurasian knapweed.

In addition to the laboratory tests, gall formation tests were conducted under open-field conditions in an experimental garden at the Institute of Zoology, Tashkent, Uzbekistan. Test plant species were either grown from seed or collected in the local area and transplanted to the experimental sites and were arranged with Russian knapweed in a randomized design. J. ivannikovi galls were collected locally over an approximate span of 2 years. In these tests, gall formation was recorded in large numbers on Russian knapweed but on no other test plant species, including the Eurasian knapweed.

APHIS' review and analysis of the proposed action are documented in detail in an environmental assessment (EA) entitled “Field Release of Jaapiella ivannikovi (Diptera: Cecidomyiidae), an Insect for Biological Control of Russian Knapweed (Acroptilon repens), in the Continental United States” (December 2008). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 6th day of March 2009.
Kevin Shea,
Acting Administrator, Animal and Plant Health Inspection Service.

[FR Doc. E9-5370 Filed 3-11-09; 8:45 am]

BILLING CODE 3410-34-P